DEPARTMENT OF JUSTICE

Notice of Lodging of Proposed Consent Decrees Under the Comprehensive Environmental Response, Compensation, and Liability Act

On March 3, 2015 the Department of Justice filed one complaint and lodged two proposed Consent Decrees with the United States District Court for the Central District of California pertaining to the Puente Valley Operable Unit of the San Gabriel Valley Superfund Site, Area 4, Los Angeles County, California, (“PVOU”). The complaint and first proposed Consent Decree were filed contemporaneously in the matter of United States v. Hill Brothers Chemical Company, Civil Action No. 2:15-cv-1545 JFW (PLAx). The second proposed Consent Decree resolves the lawsuit entitled United States v. Richard A. Mancino and Yolanda E. Mancino, as Individuals and as Trustees for The Mancino Trust, Civil Action No. 12-cv-07513 CJC (MANx). The Mancino lawsuit was initiated with a complaint filed with the court on August 31, 2012.

The Consent Decrees resolve claims under Section 107 of the Comprehensive Environmental Response, Compensation, and Liability Act (“CERCLA”), 42 U.S.C. 9607 related to releases and threatened releases of hazardous substances at the PVOU. The Consent Decrees contain a covenant not to sue for past and certain future costs and response work at the Site under Sections 106 and 107 of CERCLA and Section 7003 of RCRA. The Mancino Consent Decree resolves claims against Richard A. and Yolanda Mancino as individuals and as trustees of the Mancino Trust, and recovers $180,000 in response costs. The Hill Consent Decree resolves claims against Hill Brothers Chemical Company, and recovers $135,000 in response costs.

The publication of this notice opens a period for public comment on the Consent Decree. Comments should be addressed to the Assistant Attorney General, Environment and Natural Resources Division, and should refer to United States v. Richard A. and Yolanda Mancino, et al., D.J. Ref. No. 90-11-2-354/28 and/or United States v. Hill Brothers Chemical Company., D.J. Ref. No. 90-11-2-354/35. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $8.25 (25 cents per page reproduction cost) for the Mancino Consent Decree and/or $8.00 for the Hill Consent Decree, payable to the United States Treasury.

Henry S. Friedman,
Assistant Section Chief, Environmental Enforcement Section, Environment and Natural Resources Division.

[FR Doc. 2015-05593 Filed 3-11-15; 8:45 am]

BILLING CODE 4410-15-P